DEPARTMENT OF DEFENSE

Department of the Army, Corps of Engineers

Inland Waterways Users Board Third Request for Nominations; Correction

AGENCY: Department of the Army, U.S. Army Corps of Engineers, Department of Defense (DoD).

ACTION: Notice; correction.

SUMMARY: The U.S. Army Corps of Engineers published a document in the Federal Register of December 23, 2025, concerning the Inland Waterways Users Board Third Request for Nominations and has revised the Deadline for Nominations.

FOR FURTHER INFORMATION CONTACT: Mr. Paul D. Clouse, Designated Federal Officer (DFO) for the Inland Waterways Users Board, by telephone at 202-768-3157, or Mr. Steven D. Riley, the Alternate Designated Federal Officer (ADFO), by telephone at 703-659-3097.

SUPPLEMENTARY INFORMATION: In the Federal Register of December 23, 2025, in FR Doc. 2025-23687 page 60078, in SUPPLEMENTARY INFORMATION section (e), correct the Deadline for Nominations to read:

e. Deadline for Nominations. All nominations must be received at the address shown above no later than January 9, 2026.

Stephen L. Hill,
Director, Operations and Regulatory Programs, Corps of Engineers.

[FR Doc. 2025-24106 Filed 12-30-25; 8:45 am]

BILLING CODE 3720-58-P